DEPARTMENT OF AGRICULTURE

Natural Resources Conservation Service

Notice of Request for Nominations for the Agricultural Air Quality Task Force

AGENCY: Natural Resources Conservation Service, Agriculture.

ACTION: Notice of Request for Nominations.

SUMMARY: The Secretary of Agriculture intends to renew the Agricultural Air Quality Task Force and requests nominations for qualified persons to serve as members.

DATES: Nominations must be received in writing (see SUPPLEMENTARY INFORMATION section) by May 19, 2006.

ADDRESSES: Send written nominations to: Chief, USDA/Natural Resources Conservation Service, Post Office Box 2890, Washington DC 20013-2890.

FOR FURTHER INFORMATION CONTACT: Dr. Diane Gelburd, Designated Federal Official, USDA/Natural Resources Conservation Service, telephone: (202) 720-2587, fax: (202) 720-2646, e-mail: Diane.Gelburd@wdc.usda.gov.

SUPPLEMENTARY INFORMATION:

AAQTF Purpose

As required by section 391 of the Federal Agriculture Improvement and Reform Act of 1996, the Chief of the Natural Resources Conservation Service (NRCS) shall establish a committee to address agricultural air quality issues. The Agricultural Air Quality Task Force (AAQTF) shall advise the Secretary of Agriculture, with respect to the role of the Secretary, for providing oversight and coordination related to agricultural air quality. The requirements of the Federal Advisory Committee Act (FACA) apply to AAQTF.

AAQTF will advise the Secretary of Agriculture on:

1. Research efforts related to agricultural air quality;

2. The extent to which agricultural activities contribute to air pollution;

3. Cost-effective ways in which the agricultural industry can improve air quality;

4. Coordination of research on agricultural air quality issues to avoid duplication and to ensure data quality and sound interpretation of data; and

5. The respect to the role of the Secretary for providing oversight and coordination related to agricultural air quality.

AAQTF Membership

AAQTF will be made up of United States citizens and be composed of:

1. Individuals with scientific knowledge of agricultural air quality issues. Candidates in this category will be considered based upon their published research and editorial record, having provided testimony to congressional bodies, directing research efforts, receipt of national professional awards, and other applicable special experience or abilities. At least one atmospheric scientist will specifically be selected from this category of applicant.

2. Experts in the production of food and fiber. Candidates in this category will be considered based upon their practical experience in farming/ranching, participation in professional associations, service as an elected official, service on other agricultural action committees, having provided expert testimony to congressional bodies, and other applicable special experience or abilities.

3. Representatives from agricultural interest groups and industry. Candidates in this category will be considered based upon their professional industry standing, academic training, owning a producing farm/ranch, service on industry-wide committees, relevant publications/speeches, and other applicable special experience or abilities.

4. Representatives of other interests, including human health, environmental advocacy, and air quality regulators. Candidates in this category will be considered based upon their academic training, air-quality or agriculturally-related professional service, knowledge of farm/ranch operations, professional memberships, air-quality or agriculturally-related publications/speeches, and other applicable special experience or abilities.

AAQTF nominations must be in writing and must provide the appropriate background documents required by the Department of Agriculture (USDA) policy, including Form AD-755 (which is available online at the URL listed below). Previous nominees and current AAQTF members who wish to be reappointed must completely update their nominations, including all supporting materials, and provide a new background disclosure form (AD-755) to reaffirm their candidacy. Service as an AAQTF member shall not constitute employment by, or the holding of an office of, the United States for the purpose of any Federal law.

An AAQTF member shall serve for a term of 2 years. AAQTF members shall receive no compensation from NRCS for their service as AAQTF members, except as described below.

While away from home or regular place of business as a member of the AAQTF, the member will be eligible for travel expenses paid by NRCS, including per diem in lieu of subsistence, at the same rate as a person employed intermittently in the government service under section 5703 of Title 5, United States Code.

Additional information about the AAQTF, as well as Form AD-755, may be found online at http://www.airquality.nrcs.usda.gov/AAQTF/.

Submitting Nominations

Nominations should be typed and should include the following:

1. A brief summary of no more than two pages explaining the nominee's qualifications to serve on the AAQTF.

2. Resume, including publication list. Please do not send actual publications.

3. A completed copy of Form AD-755.

4. Letters of support.

Nominations should be sent to the Chief of NRCS at the address listed above and postmarked no later than May 19, 2006.

Equal Opportunity Statement

To ensure that recommendations of AAQTF take unto account the needs of underserved and diverse communities served by USDA, membership shall include to the extent practicable, individuals representing minorities, women, and persons with disabilities.

Signed in Washington, DC on March 28, 2006.
Bruce I. Knight,
Chief, Natural Resources Conservation Service.

[FR Doc. E6-4895 Filed 4-5-06; 8:45 am]

BILLING CODE 3410-16-P